DEPARTMENT OF HOMELAND SECURITY

Transportation Security Administration

Aviation Security Advisory Committee Meeting

AGENCY: Transportation Security Administration (TSA), DHS.

ACTION: Notice of meeting.

SUMMARY: This notice announces a public meeting of the Aviation Security Advisory Committee (ASAC).

DATES: The meeting will take place on September 30, 2004, from 9 a.m. to 3:30 p.m.

ADDRESSES: The meeting will be held in the Town Hall meeting room, first floor, Transportation Security Administration, 601 South 12th Street, Arlington, VA 22202.

FOR FURTHER INFORMATION CONTACT: Joseph Corrao, Office of Transportation Security Policy (TSA-9), Transportation Security Administration, 601 South 12th Street, Arlington, VA 22202; telephone (571) 227-2980, e-mail joseph.corrao@dhs.gov.

SUPPLEMENTARY INFORMATION: This meeting is announced pursuant to section 10(a)(2) of the Federal Advisory Committee Act, as amended (5 U.S.C. App.). The agenda for the meeting will include—

• An update on TSA actions with regard to ASAC recommendations on air cargo security and general aviation airport security;

• A presentation on the status of new and emerging aviation security technologies; and

• A discussion of airport development issues related to new and emerging aviation security technologies; and other aviation security topics.

This meeting is open to the public but attendance is limited to space available. Please be aware that all members of the public should arrive at the TSA Headquarters Visitors Center, 601 South 12th Street, Arlington, Virginia, and allow time to complete the required building entry screening and obtain visitors' passes before being admitted to the meeting room.

Members of the public must make advanced arrangements to present oral statements at the open ASAC meeting. Written statements may be presented to the committee by providing copies of them to the Chair prior to or at the meeting. Anyone in need of assistance or a reasonable accommodation for the meeting should contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Arlington, Virginia, on September 7, 2004.
Chad Wolf,
Acting Assistant Administrator for Transportation Security Policy.

[FR Doc. 04-20552 Filed 9-10-04; 8:45 am]

BILLING CODE 4910-62-P